DEPARTMENT OF ENERGY

Federal Energy Regulatory Commission

[Docket No. IC24-5-000]

Commission Information Collection Activities (FERC-725HH); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-725HH (RF Reliability Standards).

DATES: Comments on the collection of information are due May 15, 2024.

ADDRESSES: Send written comments on FERC-725HH to OMB through www.reginfo.gov/public/do/PRAMain. Attention: Federal Energy Regulatory Commission Desk Officer. Please identify the OMB Control Number (1902-0256) in the subject line of your comments. Comments should be sent within 30 days of publication of this notice to www.reginfo.gov/public/do/PRAMain.

Please submit copies of your comments to the Commission. You may submit copies of your comments (identified by Docket No. IC24-5-000) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Jean Sonneman may be reached by email at DataClearance@FERC.gov, and telephone at (202) 502-6362.

SUPPLEMENTARY INFORMATION:

Title: FERC-725HH, RF Reliability Standards.

OMB Control No.: 1902-0256.

Type of Request: Three-year renewal of FERC-725HH.

Abstract: This collection of information pertains to the Commission's compliance with section 215 of the Federal Power Act (FPA) (16 U.S.C. 824o), which enables the Commission to strengthen the reliability of the “bulk-power system.” ¹ The Commission's implementation of FPA section 215 involves review and approval of a system of mandatory Reliability Standards that are established and enforced by an “Electric Reliability Organization” (ERO).² The Commission has certified the North American Electric Reliability Corporation (NERC) as the ERO.³

¹ FPA section 251(a)(1) defines “bulk-power system” as follows: “(A) facilities and control systems necessary for operating an interconnected electric energy transmission network (or any portion thereof); and (B) electric energy from generation facilities needed to maintain transmission system reliability. The term does not include facilities used in the local distribution of electric energy.”

² FPA section 215(a)(2) defines “Electric Reliability Organization” as “the organization certified by the Commission under subsection (c) the purpose of which is to establish and enforce reliability standards for the bulk-power system, subject to Commission review.”

³ North American Electric Reliability Corp., 116 FERC ¶ 61,062 (ERO Certification Order), order on reh'g & compliance, 117 FERC ¶ 61,126 (2006), aff'd sub nom. Alcoa, Inc. v. FERC, 564 F.3d 1342 (D.C. Cir. 2009).

Reliability Standards that the ERO proposes to the Commission may include Reliability Standards that are proposed to the ERO by a Regional Entity.⁴ A Regional Entity is an entity that has been approved by the Commission to enforce Reliability Standards under delegated authority from the ERO.⁵ On March 17, 2011, the Commission approved a regional Reliability Standard submitted by the ERO that was developed by the Reliability First Corporation (RF).⁶

⁴ 16 U.S.C. 824o(e)(4).

⁵ 16 U.S.C. 824o(a)(7) and (e)(4).

⁶ Planning Resource Adequacy Assessment Reliability Standard, Order No. 747, 134 FERC ¶ 61,212 (2011).

RF promotes bulk electric system reliability in the Eastern Interconnection. RF is the Regional Entity responsible for compliance monitoring and enforcement in the RF region. In addition, RF provides an environment for the development of Reliability Standards and the coordination of the operating and planning activities of its members as set forth in the RF bylaws.

There is one regional Reliability Standard in the RF region. The Commission requests renewal of OMB clearance for that regional Reliability Standard, known as BAL-502-RF-03 (Planning Resource Adequacy Analysis, Assessment and Documentation).

Type of Respondents: Planning coordinators.

Estimate of Annual Burden: ⁷ The estimated burden and cost ⁸ are as follows:

⁷ Burden is defined as the total time, effort, or financial resources expended by persons to generate, maintain, retain, or disclose or provide information to or for a Federal agency. For further explanation of what is included in the information collection burden, refer to 5 CFR 1320.3.

⁸ For BAL-502-RF-03, the estimated hourly cost (salary plus benefits) is a combination based on the Bureau of Labor Statistics (BLS), as of 2022, for 75% of the average of an Electrical Engineer (17-2071) $77.29/hr, 77.29 × .75 = 57.9675 ($57.97—rounded) ($57.97/hour) and 25% of an Information and Record Clerk (43-4199) $39.58/hr, $39.58 × .25% = 9.895 ($9.90 rounded) ($9.90/hour), for a total ($57.97 + $9.90 = $67.87/hour).

⁹ The number of respondents is derived from the NERC Compliance Registry as of November 14, 2023 for the burden associated with the regional Reliability Standard BAL-502-RF-03.

FERC-725HH, RF Reliability Standards
Entity | Number of respondents ⁹ | Annual number of responses per respondent | Annual number of responses | Average burden hrs. & cost per response ($) | Total annual burden hours & total annual cost ($) | Cost per respondent ($)
| (1) | (2) | (1) * (2) = (3) | (4) | (3) * (4) = (5) | (5) ÷ (1) = (6)
Regional Reliability Standard BAL-502-RF-03
Planning Coordinators | 2 | 1 | 2 | 16 hrs.; $1,085.92 | 32 hrs.; $2,171.84 | $1,085.92

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 9, 2024.
Debbie-Anne A. Reese,
Acting Secretary.

[FR Doc. 2024-07907 Filed 4-12-24; 8:45 am]

BILLING CODE 6717-01-P